DEPARTMENT OF TRANSPORTATION

National Highway Traffic Safety Administration

[Docket No. NHTSA-2018-0057]

Agency Information Collection Activities; Proposals, Submissions, and Approvals

AGENCY: National Highway Traffic Safety Administration (NHTSA), U.S. Department of Transportation (DOT).

ACTION: Notice and request for comments.

SUMMARY: In compliance with the Paperwork Reduction Act of 1995, this notice announces that the Information Collection Request (ICR) below is being forwarded to the Office of Management and Budget (OMB) for review and comments. A Federal Register Notice with a 60-day comment period soliciting comments on the following information collection was published on April 16, 2018. The agency received one relevant comment.

DATES: Comments must be submitted on or before September 21, 2018.

ADDRESSES: Send comments regarding the burden estimate, including suggestions for reducing the burden, to the Office of Management and Budget, Attention: Desk Officer for the Office of the Secretary of Transportation, 725 17th Street NW, Washington, DC 20503.

FOR FURTHER INFORMATION CONTACT: Mr. Robert Mazurowski, Office of Crashworthiness Standards, NRM-130, 202-366-1012, National Highway Traffic Safety Administration, Room W43-445, Department of Transportation, 1200 New Jersey Avenue SE, Washington, DC 20590. Please identify the relevant collection of information by referring to its OMB Control Number.

SUPPLEMENTARY INFORMATION: Before a Federal agency can collect certain information from the public, it must receive approval from the OMB. In compliance with those requirements, this notice announces that the following information collection request has been forwarded to OMB.

Federal Motor Vehicle Safety Standard (FMVSS) No. 218, “Motorcycle helmets,” requires that each helmet shall be labeled permanently and legibly in a manner such that the label(s) can be read easily without removing padding or any other permanent part. This collection pertains to the labeling requirements in FMVSS No. 218.

NHTSA published a Federal Register notice requesting public comment on this information collection.¹ In response, the agency received three comments, only one of which was relevant to this collection.²

¹ 83 FR 16431 (April 16, 2018).

² www.regulations.gov. Docket Number: NHTSA-2018-0051.

The Governors Highway Safety Association (GHSA) expressed its support for strong motorcycle helmet labeling requirements, and submitted information about motorcycle safety. GHSA commented that this information collection was “atypical” in their view. GHSA explained that typically ICRs involved the collection or submission of information directly to the agency and that while NHTSA spot checks the performance of motorcycle helmets through a compliance program, the content of the label is more for the benefit of consumers and law enforcement.

GHSA is correct that a common type of information collection under the Paperwork Reduction Act (PRA) occurs when an agency directly collects information from the public. However, a collection of information, as defined by the PRA, means “the obtaining, causing to be obtained, soliciting, or requiring the disclosure to third parties or the public, of facts or opinions by or for an agency, regardless of form or format . . .” ³ This labeling requirement imposes a disclosure (label) to the public, and is therefore covered by the PRA. NHTSA has sought and received PRA clearance for FMVSS No. 218 dating back to 1984.⁴ Therefore, NHTSA believes no changes are necessary in response to comments.

³ 44 U.S.C. 3502(3).

⁴ See: https://www.reginfo.gov/public/do/PRAOMBHistory?ombControlNumber=2127-0518 (last accessed June 22, 2018).

The following describes the collection of information for which NHTSA intends to seek OMB approval. It is titled “Motorcycle Helmets (Labeling),” OMB Control Number: 2127-0518. NHTSA's existing collection for FMVSS No. 218 expired during the 60 day notice comment period, therefore the agency has amended the type of request to be a reinstatement of a previously approved collection.

Title: Motorcycle Helmets (Labeling).

OMB Control Number: 2127-0518.

Type of Request: Reinstatement without change of previously approved collection of information.

Abstract: The National Traffic and Motor Vehicle Safety Act, now codified at 49 U.S.C. 30111, authorizes the issuance of FMVSS. Moreover, under 49 U.S.C. 30117, the Secretary is also authorized to require manufacturers to provide information to first purchasers of motor vehicles or motor vehicle equipment when the vehicle equipment is purchased, in the form of printed matter placed in the vehicle or attached to the motor vehicle or motor vehicle equipment. The Secretary is authorized to issue, amend, and revoke such rules and regulations as he/she deems necessary.

Using this authority, the agency issued the initial FMVSS No. 218 in 1974. Motorcycle helmets are devices used to protect motorcyclists from head injury in motor vehicle crashes. FMVSS No. 218 S5.6 requires that each helmet shall be labeled permanently and legibly in a manner such that the label(s) can be read easily without removing padding or any other permanent part.

Affected Public: Motorcycle helmet manufacturers.

Estimated Number of Respondents: 45.

Frequency: Every certified helmet produced.

Number of Responses: 3,250,000.

Estimated Total Annual Burden Hours: 9,100.

Estimated Total Annual Burden Cost: $1,300,000 ($1.3 million).

The 45 respondents (helmet manufacturers) produce a total of 3,250,000 annual responses. A manufacturer spends approximately 0.0028 hours per response. The estimated annual number of burden hours for helmet manufacturers is 9,100 burden hours per year (3,250,000 × 0.028 hours). Using a total labeling cost of $0.40, the estimated total annual burden cost is $1,300,000 (3,250,000 × $0.40).

Public Comments Invited: You are asked to comment on any aspects of this information collection, including: (a) Whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995, 44 U.S.C. Chapter 35, as amended; and Delegation of Authority at 49 CFR 1.95 and 501.8.

Raymond R. Posten,
Associate Administrator for Rulemaking.

[FR Doc. 2018-18052 Filed 8-21-18; 8:45 am]

BILLING CODE 4910-59-P